GENERAL SERVICES ADMINISTRATION

[OMB Control No. 3090-0303; Docket No. 2022-0001; Sequence No. 6]

Information Collection; General Services Administration Acquisition Regulation; Federal Supply Schedule Solicitation Information

AGENCY: Office of Acquisition Policy, General Services Administration (GSA).

ACTION: Notice of request for public comments regarding an extension to an existing OMB information clearance.

SUMMARY: Under the provisions of the Paperwork Reduction Act, the Regulatory Secretariat Division will be submitting to the Office of Management and Budget (OMB) a request to review and approve an information collection requirement regarding OMB Control No. 3090-0303, Federal Supply Schedule Solicitation Information.

DATES: Submit comments on or before: July 11, 2022.

ADDRESSES: Submit comments identified by “Information Collection 3090-0303, Federal Supply Schedule Solicitation Information” to: http://www.regulations.gov. Submit comments via the Federal eRulemaking portal by searching for “Information Collection 3090-0303, Federal Supply Schedule Solicitation Information”. Select the link “Submit a Comment” that corresponds with “Information Collection 3090-0303, Federal Supply Schedule Solicitation Information”. Follow the instructions provided at the “Submit a Comment” screen. Please include your name, company name (if any), and “Information Collection 3090-0303, Federal Supply Schedule Solicitation Information,” on your attached document. If your comment cannot be submitted using https://www.regulations.gov, call or email the points of contact in the FOR FURTHER INFORMATION CONTACT section of this document for alternate instructions.

Instructions: Please submit comments only and cite Information Collection 3090-0303, Federal Supply Schedule Solicitation Information, in all correspondence related to this collection. Comments received generally will be posted without change to http://www.regulations.gov, including any personal and/or business confidential information provided. To confirm receipt of your comment(s), please check www.regulations.gov, approximately two-to-three days after submission to verify posting.

FOR FURTHER INFORMATION CONTACT: Mr. Thomas O'Linn, Procurement Analyst, General Services Acquisition Policy Division, GSA, by phone at 202-445-0390 or by email at thomas.olinn@gsa.gov.

SUPPLEMENTARY INFORMATION:

A. Purpose

This information requirement consists of information used by Contracting Officers awarding GSA Federal Supply Schedule (FSS) contracts in the review and evaluation of offers.

B. Annual Reporting Burden

The annual total annual public hour burden for this information collection is estimated to be 12,207 total hours. Annual reporting burdens include the estimated respondents with one (1) submission per respondent multiplied by preparation hours per response to get the total response burden hours.

GSAR clause 552.238-84, Discounts for Prompt Payment. This clause requests an offeror to identify in their offer any discounts for early payment.

Respondents: 3,051.

Responses per respondent: 1.

Total annual responses: 3,051.

Preparation hours per response: .50 (30 minutes).

Total response burden hours: 1,526.

GSAR clause 552.238-87, Delivery Prices. This clause requests an offeror to identify in their offer whether or not prices submitted cover delivery f.o.b. destination in Alaska, Hawaii, and the Commonwealth of Puerto Rico.

Respondents: 3,051.

Responses per respondent: 1.

Total annual responses: 3,051.

Preparation hours per response: .50 (30 minutes).

Total response burden hours: 1,526.

GSAR clause 552.238-95, Separate Charge for Performance Oriented Packaging (POP) **. This clause requests an offeror, if applicable, to identify any hazardous material item (i.e., SIN or Descriptive Name of Article) being offered and the separate charge that applies.

Respondents: 3,051.

Responses per respondent: 1.

Total annual responses: 3,051.

Preparation hours per response: .50 (30 minutes).

Total response burden hours: 1,526.

GSAR clause 552.238-96, Separate Charge for Delivery within Consignee's Premises**. This clause requests an offeror, as applicable, to identify any separate charge(s) for shipping when the delivery is within the consignee's premises (inclusive of items that are comparable in size and weight).

Respondents: 3,051.

Responses per respondent: 1.

Total annual responses: 3,051.

Preparation hours per response: .50 (30 minutes).

Total response burden hours: 1,526.

GSAR clause 552.238-97, Parts and Service. This clause requests an offeror, if applicable, to include in their offer the names and addresses of all supply and service points maintained in the geographic area in which the offeror would perform under the GSA FSS contract (if awarded one). Additionally, requests an offeror to indicate whether or not a complete stock of repair parts for the items being offered is carried at that point, and whether or not mechanical service is available.

Respondents: 3,051.

Responses per respondent: 1.

Total annual responses: 3,051.

Preparation hours per response: .50 (30 minutes).

Total response burden hours: 1,526.

GSAR clause 552.238-99, Delivery Prices Overseas. This clause requests an offeror to identify the intended geographic area(s)/countries/zones which are covered by their offer.

Respondents: 3,051.

Responses per respondent: 1.

Total annual responses: 3,051.

Preparation hours per response: .50 (30 minutes).

Total response burden hours: 1,526.

GSAR clause 552.238-111, Environmental Protection Agency Registration Requirement**. This clause requests offerors, if applicable, to identify the manufacturer's and/or distributor's name and EPA Registration Number for each item offered that requires registration with the EPA.

Respondents: 3,051.

Responses per respondent: 1.

Total annual responses: 3,051.

Preparation hours per response: 1.0 (1 hr.).

Total response burden hours: 3,051.

** This clause applies to specific GSA FSS Solicitation Large Categories.

C. Public Comments

Public comments are particularly invited on: Whether this collection of information is necessary and whether it will have practical utility; whether GSA's estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW, Washington, DC 20405, telephone 202-501-4755. Please cite OMB Control No. 3090-0303, Federal Supply Schedule Solicitation Information, in all correspondence.

Jeffrey A. Koses,
Senior Procurement Executive, Office of Acquisition Policy, Office of Government-wide Policy.

[FR Doc. 2022-10113 Filed 5-10-22; 8:45 am]

BILLING CODE 6820-61-P